DEPARTMENT OF THE INTERIOR

National Park Service

National Register of Historic Places; Notification of Pending Nominations

Nominations for the following properties being considered for listing in the National Register were received by the National Park Service before October 26, 2002. Pursuant to section 60.13 of 36 CFR part 60 written comments concerning the significance of these properties under the National Register criteria for evaluation may be forwarded by United States Postal Service, to the National Register Historic Places, National Park Service, 1849 C St., NW., 2280, Washington, DC 20240; by all other carriers, National Register of Historic Places, National Park Service,1201 Eye St. NW., 8th floor, Washington DC 20005; or by fax, 202-343-1836. Written or faxed comments should be submitted by November 25, 2002.

Carol D. Shull,
Keeper of the National Register of Historic Places.

ALASKA

Southeast Fairbanks Borough—Census Area

Haines, John, Homestead, Mi. 296 Richardson Hwy., Delta, 02001461

Valdez-Cordova Borough—Census Area

Copper River and Northwestern Railway Bunkhouse and Messhouse, Third St., Chitina, 02001460

COLORADO

La Plata County

Smiley Junior High School, 1309 E 3rd Ave., Durango, 02001462

KENTUCKY

Bourbon County

Cane Ridge Rural Historic District, Canal Ridge Rd., Paris, 02001463

Calloway County

Murray Commercial Historic District, Roughly bounded by Walnut St., L.P. Miller St., Poplar St. and 6th St., Murray, 02001464

Campbell County

Third Street Motor Car Company Building, 216 E. Third St., Newport, 02001465

Green County

Downtown Greensburg Historic District, (Green County MRA) Public Square and bounded by N. and S. Main St., and E. and W. Court Sts., Greensburg, 02001466

Hardin County

Woodard, George, House, (Hardin County MRA) 232 W. Poplar St., Elizabethtown, 02001467

Jefferson County

Duncan, Stuart E. and Annie L., Estate, (Louisville and Jefferson County MPS) 404 Mockingbird Valley Rd., Louisville, 02001468

Stewart, W.K., Bookstore, 550 S. Fourth St., Louisville, 02001469

McCracken County

Masonic Temple, 501-505 S. 7th St., Paducah, 02001470

Massachusetts

Bristol County

Mount Pleasant Cemetery, Crocker, Cohannet, and Barnum Sts., Taunton, 02001474

Hampden County

Friedrich Block, 449-461 Main St., Holyoke, 02001473

Robert, Clovis, Block, 338-348 Main St., Holyoke, 02001472

Worcester County

Dean, Frank L. and Mabel H., House, 10 Cedar St., Worcester, 02001471

Nebraska

Cass County

Nehawka Public Library, Jct. of Elm and Master Sts., Nehawka, 02001481

Chase County

Texas Trail Stone Corral, Address Restricted, Imperial, 02001478

Douglas County

Shafer, M.F., and Co. Building, 1624 Webster, Omaha, 02001477

Keith County

Gainsforth, Dr. Burdette and Myrna, House, 1300 East A St., Ogallala, 02001476

Lancaster County

Hitchcok, W.F., House, 2733 Sheridan Blvd., Lincoln, 02001482

Thayer, John M., House, 1901 Prospect St., Lincoln, 02001479

Nuckolls County

Nelson Cemetery Walk, Northeast edge of Nelson, Nelson, 02001480

Saunders County

Barnes Oil Company, Jct. of Silver St. and U.S. 6, Ashland, 02001475

New Jersey

Somerset County

Staats House, 17 Von Steuben Ln., South Bound Brook Borough, 02001483

Oregon

Columbia County

Oregon-American Lumber Company Mill Office, 511 East Bridge St., Vernonia, 02001485

Lane County

Log Cabin Inn Ensemble, 156483 McKenzie Highway, McKenzie Bridge, 02001486

Multnomah County

Clarke-Mossman House, 1625 NW 29th Ave., Portland, 02001484

Virginia

Goochland County

Springdale, 2048 Cardwell Rd., Crozier, 02001490

Washington

King County

Shuey, Henry Owen, House, 5218 16 Ave. NE, 02001487

Spokane County

Latah School, 515 North Main, Latah, 02001489

Ralston, John and Mary, House, 2421 W. Mission Ave., Spokane, 02001488

[FR Doc. 02-28518 Filed 11-7-02; 8:45 am]

BILLING CODE 4310-70-P